DEPARTMENT OF THE INTERIOR

Bureau of Land Management

[WO-230-1030-PB-00-24 1A]

Extension of Approved Information Collection, OMB Number 1004-0001

AGENCY: Bureau of Land Management, Interior.

ACTION: Notice and request for comments.

SUMMARY: In accordance with the Paperwork Reduction Act of 1995, the Bureau of Land Management (BLM) announces its intention to request renewal of an existing approval to collect certain information from the general public interested in obtaining free vegetal or mineral material from public lands. This information allows BLM to properly manage and accurately track the disposal of material which is not feasible to sell, or disposal is in the best interest of the United States.

DATES: Comments on the proposed information collection must be received by October 23, 2000, to assure consideration of them.

ADDRESSES: Comments may be mailed to: Regulatory Affairs Group (630), Bureau of Land Management, 1849 C Street, NW., Room 401LS, Washington, DC 20240.

Comments may be sent via Internet to: WoComment@bim.gov. Please include “Attn: 1004-0001” and your name and return address in your Internet message.

You may hand-deliver comments to the Bureau of Land Management, Administrative Record, Room 401, 1620 L Street, NW., Washington, DC.

BLM will make comments available for public review at the L Street address during regular business hours (7:45 a.m. to 4:15 p.m.), Monday through Friday.

FOR FURTHER INFORMATION CONTACT: John C. Stewart, WO-230, (202) 452-7759, or by e-mail at John_C_Stewart@blm.gov.

SUPPLEMENTARY INFORMATION: In accordance with 5 CFR 1320.12(a), BLM is required to provide 60-day notice in the Federal Register concerning a collection of information contained in BLM Form 5510-1, Free Use Application and Permit (43 CFR 5510) to solicit comments on (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the OMB under 44 U.S.C. 3501 et seq.

The Secretary of the Interior has, under the authority of the Act of July 23, 1955, the discretion to permit the free use of vegetative or mineral materials for use other than commercial or industrial purposes or resale. The Secretary of the Interior also has the discretion to permit the free use of vegetative or mineral materials under certain circumstances, to mining claimants.

BLM uses the information provided by the applicant(s) to: maintain an inventory of vegetative and mineral information and to adjudicate your rights to vegetative and mineral resources. If BLM did not collect this information, your application may be rejected, as a permit must be filed before removal (43 CFR 5511.2-3) and the BLM must monitor the authorized uses of public lands.

Based on BLM's experience administering the activities described above, the public reporting burden for the information collected is estimated to average 30 minutes per response. The respondents are the general public. The frequency of response is once per application for a permit. The number of responses per year is estimated to total 450. The estimated total annual burden on new respondents is about 225 hours. BLM is specifically requesting your comments on its estimate of the amount of time that it takes to prepare a response. BLM's estimate is 30 minutes per response, which includes the time for reviewing instructions, gathering and maintaining the data, and completing and reviewing the form.

BLM will summarize all responses to this notice and include them in the request for Office of Management and Budget approval. All comments will also become a matter of public record.

Dated: August 16, 2000.
Shirlean Beshir,
BLM Information Clearance Officer.

[FR Doc. 00-21317 Filed 8-21-00; 8:45 am]

BILLING CODE 4310-84-M